DEPARTMENT OF ENERGY

Federal Energy Regulatory Commission

Combined Notice of Filings #2

Take notice that the Commission received the following electric corporate filings:

Docket Numbers: EC17-179-000.

Applicants: Hydro One Limited, Avista Corporation.

Description: Joint Application for Authorization of Disposition of Assets and Merger Pursuant to Section 203 of the FPA of Hydro One Limited, et al.

Filed Date: 9/14/17.

Accession Number: 20170914-5152.

Comments Due: 5 p.m. ET 10/5/17.

Take notice that the Commission received the following electric rate filings:

Docket Numbers: ER17-2497-000.

Applicants: Alabama Power Company.

Description: § 205(d) Rate Filing: Attachment S (Gulf) 2017 Updated Depreciation Rates Filing to be effective 1/1/2018.

Filed Date: 9/18/17.

Accession Number: 20170918-5122.

Comments Due: 5 p.m. ET 10/10/17.

Docket Numbers: ER17-2498-000

Applicants: PJM Interconnection, L.L.C.

Description: § 205(d) Rate Filing: Original Interconnection Service Agreement No. 4781, Queue No. AB1-082 to be effective 8/25/2017.

Filed Date: 9/18/17.

Accession Number: 20170918-5131.

Comments Due: 5 p.m. ET 10/10/17.

Docket Numbers: ER17-2499-000.

Applicants: PJM Interconnection, L.L.C.

Description: § 205(d) Rate Filing: Pseudo-Tie Agreement SA No. 4790 for Cheoah Units to be effective 12/31/9998.

Filed Date: 9/18/17.

Accession Number: 20170918-5144.

Comments Due: 5 p.m. ET 10/10/17.

Docket Numbers: ER17-2500-000.

Applicants: PJM Interconnection, L.L.C.

Description: § 205(d) Rate Filing: Pseudo-Tie Agreement SA No. 4791 for Calderwood Units to be effective12/31/9998.

Filed Date: 9/18/17.

Accession Number: 20170918-5146.

Comments Due: 5 p.m. ET 10/10/17.

Docket Numbers: ER17-2501-000.

Applicants: EDP Renewables North America LLC.

Description: Petition for Limited Waiver of Tariff Provision and Request for Expedited Action of EDP Renewables North America LLC.

Filed Date: 9/18/17.

Accession Number: 20170918-5158.

Comments Due: 5 p.m. ET 10/10/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 18, 2017.
Nathaniel J. Davis, Sr.,
Deputy Secretary.

[FR Doc. 2017-20253 Filed 9-21-17; 8:45 am]

BILLING CODE 6717-01-P